DEPARTMENT OF COMMERCE

International Trade Administration

[A-570-126, C-570-127]

Certain Non-Refillable Steel Cylinders From the People's Republic of China: Amended Final Antidumping Duty Determination and Antidumping Duty and Countervailing Duty Orders

AGENCY: Enforcement and Compliance, International Trade Administration, Department of Commerce.

SUMMARY: Based on affirmative final determinations by the Department of Commerce (Commerce) and the International Trade Commission (ITC), Commerce is issuing antidumping duty (AD) and countervailing duty (CVD) orders on certain non-refillable steel cylinders (non-refillable cylinders) from the People's Republic of China (China). In addition, Commerce is amending its AD final determination to correct for certain ministerial errors.

DATES: Applicable May 11, 2021.

FOR FURTHER INFORMATION CONTACT: Katherine Sliney at (202) 482-2437 (AD) and Kristen Johnson at 202-482-4793 (CVD), AD/CVD Operations, Enforcement and Compliance, U.S. Department of Commerce, 1401 Constitution Avenue NW, Washington, DC 20230.

SUPPLEMENTARY INFORMATION:

Background

In accordance with sections 705(d) and 735(d) of the Tariff Act of 1930, as amended (the Act), on March 22, 2021, Commerce published its affirmative final determination of sales at less than fair value (LTFV) and its affirmative final determination that countervailable subsidies are being provided to producers and exporters of non-refillable cylinders from China.¹

¹ See Non-Refillable Steel Cylinders from the People's Republic of China: Final Affirmative Determination of Sales at Less Than Fair Value, 86 FR 15188 (March 22, 2021) (AD Final Determination); see also Certain Non-Refillable Steel Cylinders from the People's Republic of China: Final Affirmative Countervailing Duty Determination, 86 FR 15192 (March 22, 2021) (CVD Final Determination).

On March 17, 2021 and March 22, 2021, Commerce received allegations that Commerce made ministerial errors in the AD Final Determination from Hangzhou JM Chemical Co., Ltd. (Hangzhou JM), Ningbo Eagle Machinery & Technology Co., Ltd. (Ningbo Eagle), and Wuyi Xilinde Machinery Manufacture Co., Ltd. (Wuyi Xilinde).² After reviewing the allegations, we determine that the AD Final Determination included certain ministerial errors and, therefore, we made appropriate changes, as described below in the “Amendment to AD Final Determination” section of this notice.

² See Hangzhou JM's Letter, “Hangzhou JM Clerical Error Comments in the Final Determination including Customs Instructions: Antidumping Duty Investigation of Certain Non-Refillable Cylinders from the People's Republic of China (A-570-126),” dated March 17, 2021; see also Ningbo Eagle's Letter, “Certain Non-Refillable Steel Cylinders from the People's Republic of China: Ministerial Error Comment,” dated March 22, 2021; and Wuyi Xilinde's Letter, “Certain Non-Refillable Steel Cylinders from the People's Republic of China: Allegation of Ministerial Error in the Final Determination,” dated March 22, 2021.

On May 5, 2021, pursuant to sections 705(d) and 735(d) of the Act, the ITC notified Commerce of its final affirmative determinations that an industry in the United States is materially injured by reason of LTFV imports and subsidized imports of non-refillable cylinders from China, within the meaning of sections 705(b)(1)(A)(i) and 735(b)(1)(A)(i) of the Act.³

³ See ITC's Letter, “Notification of ITC Final Determinations,” dated May 5, 2021 (ITC Notification Letter).

Scope of the Orders

The products covered by these orders are non-refillable cylinders from China. For a full description of the scope of the orders, see the appendix to this notice.

Amendment to AD Final Determination

A ministerial error is defined in 19 CFR 351.224(f) as “an error in addition, subtraction, or other arithmetic function, clerical error resulting from inaccurate copying, duplication, or the like, and any other similar type of unintentional error which the Secretary considers ministerial.” Pursuant to 19 CFR 351.224(f), and as explained further in the Ministerial Error Memorandum,⁴ Commerce is amending the AD Final Determination to reflect the correction of ministerial errors made in the calculations performed for the AD Final Determination, as alleged by Ningbo Eagle, and Wuyi Xilinde. Correction of these errors, as well as a related error identified by Commerce, resulted in changes to the final estimated weighted-average dumping margin calculated for Wuyi Xilinde, the rate applicable to the separate rate companies, including Ningbo Eagle, and changes the companies' corresponding cash deposit rates.⁵ Further, Commerce is amending the AD Final Determination to reflect the correction of a clerical error made in identifying the incorrect producer corresponding to the exporter Hangzhou JM, and identifies the correct producer, Wuyi Xilinde, in the combination rates for subject merchandise exported by Hangzhou JM listed below.

⁴ See Memorandum, “Certain Non-Refillable Steel Cylinders from the People's Republic of China: Allegations of Ministerial Errors in the Final Affirmative Determination of Sales at Less Than Fair Value,” dated April 15, 2021 (Ministerial Error Memorandum).

⁵ See Memorandum, “Antidumping Duty Investigation of Certain Non-Refillable Steel Cylinders from the People's Republic of China: Amended Final Results Margin Calculation for Wuyi Xilinde Machinery Manufacture Co., Ltd.,” dated concurrently with this notice; see also Memorandum, “Non-Refillable Steel Cylinders from the People's Republic of China: Amended Double Remedies and Export Subsidy Offset Calculation,” dated April 15, 2021, and Memorandum, “Non-Refillable Steel Cylinders from the People's Republic of China: Amended Double Remedies and Export Subsidy Offset Calculation Excel File,” dated April 21, 2021 (both of these submissions contained a clerical error with respect to the China-wide rate, which remains unchanged from the Final Determination, and were later corrected); and Memorandum, “Amended Double Remedies and Export Subsidy Offset Calculation, dated April 23, 2021.

AD Order

As stated above, on May 5, 2021, in accordance with section 735(d) of the Act, the ITC notified Commerce of its final determination that an industry in the United States is materially injured within the meaning of section 735(b)(1)(A)(i) of the Act by reason of imports of non-refillable cylinders from China that are sold in the United States at LTFV.⁶ Therefore, in accordance with section 735(c)(2) of the Act, we are issuing this AD order. Because the ITC determined that imports of non-refillable cylinders from China are materially injuring a U.S. industry, unliquidated entries of such merchandise from China entered, or withdrawn from warehouse, for consumption are subject to the assessment of antidumping duties.

⁶ See ITC Notification Letter.

Therefore, in accordance with section 736(a)(1) of the Act, Commerce intends to direct U.S. Customs and Border Protection (CBP) to assess, upon further instruction by Commerce, antidumping duties equal to the amount by which the normal value of the merchandise exceeds the export price (or constructed export price) of the merchandise for all relevant entries of non-refillable cylinders from China. Antidumping duties will be assessed on unliquidated entries of non-refillable cylinders from China entered, or withdrawn from warehouse, for consumption on or after October 30, 2020, the date of publication of the AD Preliminary Determination, but will not include entries occurring after the expiration of the provisional measures period and before publication of the ITC's final injury determination, as further described below.⁷

⁷ See Certain Non-Refillable Steel Cylinders from the People's Republic of China: Preliminary Affirmative Determination of Sales at Less Than Fair Value, Postponement of the Final Determination and Extension of Provisional Measures, 85 FR 68852 (October 30, 2020) (AD Preliminary Determination).

Continuation of Suspension of Liquidation—AD

Except as noted in the “Provisional Measures—AD” section of this notice, in accordance with section 735(c)(1)(B) of the Act, Commerce intends to instruct CBP to continue to suspend liquidation on all relevant entries of non-refillable cylinders from China. These instructions suspending liquidation will remain in effect until further notice.

Commerce also intends to instruct CBP to require cash deposits equal to the estimated weighted-average dumping margins indicated in the table below, adjusted by the relevant subsidy offsets. Accordingly, effective on the date of publication in the Federal Register of the notice of the ITC's final affirmative injury determination, CBP must require, at the same time as importers would normally deposit estimated customs duties on subject merchandise, a cash deposit equal to the rates listed in the table below.

Estimated Weighted-Average Dumping Margins

The estimated weighted-average dumping margins are as follows:

Exporter | Producer | Estimated weighted- average dumping margin (percent) | Cash deposit rate (adjusted for subsidy offsets) (percent)
Sanjiang Kai Yuan Co. Ltd | Sanjiang Kai Yuan Co. Ltd | 93.09 | 76.82
Wuyi Xilinde Machinery Manufacture Co., Ltd | Wuyi Xilinde Machinery Manufacture Co., Ltd | 74.32 | 63.55
Hangzhou JM Chemical Co., Ltd | Wuyi Xilinde Machinery Manufacture Co., Ltd | 79.98 | 67.61
Ningbo Eagle Machinery & Technology Co., Ltd | Jinhua Sinoblue Machinery Manufacturing Co., Ltd | 79.98 | 67.76
Zhejiang Kin-Shine Technology Co., Ltd | Zhejiang Kin-Shine Technology Co., Ltd | 79.98 | 67.61
T.T. International Co. Ltd | Wuyi Xilinde Machinery Manufacture Co., Ltd | 79.98 | 67.61
ICOOL International Commerce Limited | ICOOL International Commerce Limited | 79.98 | 67.61
China-Wide Entity | China-Wide Entity | 112.21 | 101.67

Provisional Measures—AD

Section 733(d) of the Act states that suspension of liquidation pursuant to an affirmative preliminary determination may not remain in effect for more than four months, except where exporters representing a significant proportion of exports of the subject merchandise request that Commerce extend the four-month period to no more than six months. At the request of exporters that account for a significant proportion of non-refillable cylinders from China, Commerce extended the four-month period to six months in this AD investigation. Commerce published the AD Preliminary Determination in this investigation on October 30, 2020.⁸

⁸ See AD Preliminary Determination.

The extended provisional measures period, beginning on the date of publication of the preliminary determination, ended on April 27, 2021. Therefore, in accordance with section 733(d) of the Act and our practice, Commerce will instruct CBP to terminate the suspension of liquidation and to liquidate, without regard to antidumping duties, unliquidated entries of non-refillable cylinders from China entered, or withdrawn from warehouse, for consumption after April 27, 2021, the final day on which the provisional measures were in effect, until and through the day preceding the date of publication of the ITC's final affirmative injury determination in the Federal Register. Suspension of liquidation and the collection of cash deposits will resume on the date of publication of the ITC's final determination in the Federal Register.

CVD Order

As stated above, on May 5, 2021, in accordance with section 705(d) of the Act, the ITC notified Commerce of its final determination that the industry in the United States is materially injured within the meaning of section 705(b)(1)(A)(i) of the Act by reason of subsidized imports of non-refillable cylinders from China.⁹ Therefore, in accordance with section 705(c)(2) of the Act, Commerce is issuing this CVD order. Because the ITC determined that imports of non-refillable cylinders from China are materially injuring a U.S. industry, unliquidated entries of subject merchandise from China entered, or withdrawn from warehouse, for consumption, are subject to the assessment of countervailing duties.

⁹ See ITC Notification Letter.

Therefore, in accordance with section 706(a) of the Act, Commerce intends to direct CBP to assess, upon further instruction by Commerce, countervailing duties for all relevant entries of non-refillable cylinders from China, which are entered, or withdrawn from warehouse, for consumption on or after August 28, 2020, the date of publication of the CVD Preliminary Determination, but will not include entries occurring after the expiration of the provisional measures period and before the publication of the ITC's final injury determination under section 705(b) of the Act, as further described in the “Provisional Measures—CVD” section of this notice.¹⁰

¹⁰ See Certain Non-Refillable Steel Cylinders from the People's Republic of China: Preliminary Affirmative Countervailing Duty Determination and Alignment of Final Determination with Final Antidumping Determination, 85 FR 53323 (August 28, 2020) (CVD Preliminary Determination).

Suspension of Liquidation and Cash Deposits—CVD

In accordance with section 706 of the Act, Commerce intends to instruct CBP to reinstitute the suspension of liquidation of non-refillable cylinders from China, effective on the date of publication of the ITC's final affirmative injury determination in the Federal Register, and to assess, upon further instruction by Commerce, pursuant to section 706(a)(1) of the Act, countervailing duties for each entry of subject merchandise in an amount based on the net countervailable subsidy rates below. On or after the date of publication of the ITC's final injury determination in the Federal Register, CBP must require, at the same time as importers would normally deposit estimated customs duties on this merchandise, a cash deposit equal to the rates listed in the table below. These instructions suspending liquidation will remain in effect until further notice. The all-others rate applies to all producers or exporters not specifically listed below, as appropriate:

Company | Subsidy rate (percent)
Ningbo Eagle Machinery & Technology Co., Ltd | 25.91
Wuyi Xilinde Machinery Manufacture Co., Ltd | 18.37
All Others | 21.28
Jiangsu Kasidi Chemical Machinery Co., Ltd | 186.18
Jinhua Sinoblue Machinery Manufacturing Co., Ltd | 186.18
Ningbo Runkey CGA Cylinders Co., Ltd | 186.18
Ninhua Group Co., Ltd | 186.18
Shanghai Ronghua High-Pressure Vessel Co., Ltd | 186.18
Zhejiang Ansheng Mechanical Manufacture Co., Ltd | 186.18
Zhejiang Nof Chemical Co., Ltd | 186.18

Provisional Measures—CVD

Section 703(d) of the Act states that the suspension of liquidation pursuant to an affirmative preliminary determination may not remain in effect for more than four months. Commerce published the CVD Preliminary Determination on August 28, 2020.¹¹ As such, the four-month period beginning on the date of the publication of the CVD Preliminary Determination ended on December 25, 2020.

¹¹ See CVD Preliminary Determination.

Therefore, in accordance with section 703(d) of the Act, we instructed CBP to terminate the suspension of liquidation and to liquidate, without regard to countervailing duties, unliquidated entries of non-refillable cylinders from China entered, or withdrawn from warehouse, for consumption, on or after December 26, 2020, the date on which the provisional measures expired, until and through the day preceding the date of publication of the ITC's final injury determination in the Federal Register. Suspension of liquidation will resume on the date of publication of the ITC's final determination in the Federal Register.

Notification to Interested Parties

This notice constitutes the AD and CVD orders with respect to non-refillable cylinders from China pursuant to sections 706(a) and 736(a) of the Act. Interested parties can find a list of orders currently in effect at http://enforcement.trade.gov/stats/iastats1.html.

These orders are published in accordance with sections 706(a) and 736(a) of the Act and 19 CFR 351.211(b).

Dated: May 6, 2021.
James Maeder,
Deputy Assistant Secretary for Antidumping and Countervailing Duty Operations.

Appendix

Scope of the Orders

The merchandise covered by these orders is certain seamed (welded or brazed), non-refillable steel cylinders meeting the requirements of, or produced to meet the requirements of, U.S. Department of Transportation (USDOT) Specification 39, TransportCanada Specification 39M, or United Nations pressure receptacle standard ISO 11118 and otherwise meeting the description provided below (non-refillable steel cylinders). The subject non-refillable steel cylinders are portable and range from 300-cubic inch (4.9 liter) water capacity to 1,526-cubic inch (25 liter) water capacity. Subject non-refillable steel cylinders may be imported with or without a valve and/or pressure release device and unfilled at the time of importation. Non-refillable steel cylinders filled with pressurized air otherwise meeting the physical description above are covered by these orders.

Specifically excluded are seamless non-refillable steel cylinders.

The merchandise subject to these orders is properly classified under statistical reporting numbers 7311.00.0060 and 7311.00.0090 of the Harmonized Tariff Schedule of the United States (HTSUS). The merchandise may also enter under HTSUS statistical reporting numbers 7310.29.0025 and 7310.29.0050. Although the HTSUS statistical reporting numbers are provided for convenience and customs purposes, the written description of the merchandise is dispositive.

[FR Doc. 2021-09942 Filed 5-10-21; 8:45 am]

BILLING CODE 3510-DS-P